DEPARTMENT OF HEALTH AND HUMAN SERVICES

National Institutes of Health

Eunice Kennedy Shriver National Institute of Child Health & Human Development; Amended Notice of Meeting

Notice is hereby given of a change in the meeting of the National Institute of Child Health and Human Development Special Emphasis Panel, February 16, 2010, 2 p.m. to February 16, 2010, 3 p.m., National Institutes of Health, 6100 Executive Boulevard, Room 5B01, Rockville, MD, 20852 which was published in the Federal Register on January 22, 2010, 75 FR 3741.

The meeting date and time have been changed to March 10, 2010, 1 p.m. to March 10, 2010, 3 p.m. The meeting is closed to the public.

Dated: February 4, 2010.
Jennifer Spaeth,
Director, Office of Federal Advisory Committee Policy.

[FR Doc. 2010-3203 Filed 2-18-10; 8:45 am]

BILLING CODE 4140-01-P